DEPARTMENT OF HEALTH AND HUMAN SERVICES

Centers for Disease Control and Prevention

[60Day-05-0680]

Proposed Data Collections Submitted for Public Comment and Recommendations

In compliance with the requirement of section 3506(c)(2)(A) of the Paperwork Reduction Act of 1995 for opportunity for public comment on proposed data collection projects, the Centers for Disease Control and Prevention (CDC) will publish periodic summaries of proposed projects. To request more information on the proposed projects or to obtain a copy of the data collection plans and instruments, call 404-371-5983 and send comments to Seleda Perryman, CDC Assistant Reports Clearance Officer, 1600 Clifton Road, MS-D74, Atlanta, GA 30333 or send an e-mail to omb@cdc.gov.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Written comments should be received within 60 days of this notice.

Proposed Project

Model Performance Evaluation Program (MPEP), Severe Acute Respiratory Syndrome (SARS) MPEP OMB No. 0920-0680—Extension—Division of Laboratory Systems, Center for Health Information and Services (CoCHIS), Centers for Disease Control and Prevention (CDC).

Background and Brief Description

To support our mission of improving public health and preventing disease through continuously improving laboratory practices, the Model Performance Evaluation Program (MPEP), Division of Laboratory Systems, Coordinating Center for Health Information and Services in collaboration with National Center for Infectious Disease, Centers for Disease Control and Prevention intends to provide a new SARS-associated Coronavirus testing performance evaluation program (SARS MPEP). This program will offer external performance evaluation (PE) for SARS antibody (Ab) testing and SARS Ribonucleic Acid (RNA) Reverse Transcriptase—Polymerase Chain Reaction (RT-PCR) testing. A SARS outbreak or epidemic could recur at any time. Therefore, it is imperative that the CDC ensure all state public health department laboratories, Laboratory Response Network laboratories and other laboratories designated by CDC remain proficient in performing SARS testing. For this reason, it is of critical public health importance, at this time, that the CDC develop and maintain a performance evaluation program for SARS. Participation in PE programs is expected to lead to improved SARS testing performance because participants have the opportunity to identify areas for improvement which will help to ensure accurate testing as a basis for development of SARS prevention and intervention strategies.

This external quality assessment program will be made available at no cost (for receipt of sample panels) to 54 state laboratories. This program will offer laboratories/testing sites an opportunity for:

(1) Assuring that the laboratories/testing sites are providing accurate tests through external quality assessment,

(2) Improving testing quality through self-evaluation in a nonregulatory environment,

(3) Testing well characterized samples from a source outside the test kit manufacturer,

(4) Discovering potential testing problems so that laboratories/testing sites can adjust procedures to eliminate them,

(5) Comparing individual laboratory/testing site results to others at state level, and

(6) Consulting with CDC staff to discuss testing issues.

Participants in the MPEP SARS will be required to submit results twice/year after testing mailed performance evaluation samples.

Estimate of Annualized Burden Hours
Form name | Number of respondents | Frequency of responses | Average burden per response (in hours) | Total burden (in hours)
SARS Testing Results Booklet | 54 | 2 | 10/60 | 18
Total |  |  |  | 18

Dated: May 6, 2005.
Joan F. Karr,
Acting Reports Clearance Officer, Centers for Disease Control and Prevention.

[FR Doc. 05-9564 Filed 5-12-05; 8:45 am]

BILLING CODE 4163-18-P